SMALL BUSINESS ADMINISTRATION

[Disaster Declaration #13241 and #13242]

Oklahoma Disaster Number OK-00063

AGENCY: U.S. Small Business Administration.

ACTION: Amendment 1.

SUMMARY: This is an amendment of the Presidential declaration of a major disaster for the State of Oklahoma (FEMA-4078-DR), dated 08/22/2012.

Incident: Freedom and Noble Wildfires.

Incident Period: 08/03/2012 and continuing through 08/14/2012.

Effective Date: 09/27/2012.

Physical Loan Application Deadline Date: 10/22/2012.

EIDL Loan Application Deadline Date: 05/22/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Oklahoma, dated 08/22/2012 is hereby amended to expand the incident for this disaster to include the Noble Wildfire.

All other information in the original declaration remains unchanged.

(Catalog of Federal Domestic Assistance Numbers 59002 and 59008)

James E. Rivera,
Associate Administrator for Disaster Assistance.

[FR Doc. 2012-24726 Filed 10-5-12; 8:45 am]

BILLING CODE 8025-01-P